DEPARTMENT OF TRANSPORTATION

Federal Aviation Administration

14 CFR Part 71

[Docket No. FAA-2016-9555; Airspace Docket No. 16-AGL-2]

Modification and Revocation of Multiple Air Traffic Service (ATS) Routes; Northcentral United States

AGENCY: Federal Aviation Administration (FAA), DOT.

ACTION: Final rule.

SUMMARY: This action amends and removes multiple VHF Omnidirectional Range (VOR) Federal airways in northcentral United States as part of the FAA's Next Generation Air Transportation System (NextGen) efforts to safely improve the overall efficiency of the National Airspace System (NAS) and due to the decommissioning of the Tiverton, OH, VOR/Distance Measuring Equipment (VOR/DME) navigation aid. This action also incorporates NAV CANADA's amendment to one of the airways that crosses into Canada's airspace.

DATES: Effective date 0901, May 24, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the NAS route structure as necessary to preserve the safe and efficient flow of air traffic within the NAS.

History

The FAA published a notice of proposed rulemaking (NPRM) in the Federal Register for Docket No. FAA-2016-9555 (82 FR 11859; February 27, 2017). The NPRM proposed to amend and remove multiple VHF Omnidirectional Range (VOR) Federal airways in northcentral United States to reflect and accommodate route changes being made as part of the FAA's Cleveland/Detroit Metroplex Project airspace redesign effort. Interested parties were invited to participate in this rulemaking effort by submitting written comments on the proposal. No comments were received.

Subsequent to publication of the NPRM, the FAA initiated a project for decommissioning the Tiverton, OH, VOR/DME due to the land-lease for the navigation aid expiring and not being renewed. With the planned decommissioning of the Tiverton VOR/DME, several of the Federal airways proposed for amendment in the NPRM were impacted and required additional amendment. Additionally, NAV CANADA amended one of the Federal airways proposed for amendment in the NPRM that crosses into Canada's airspace. That NAV CANADA amendment required the FAA to adjust the proposed amendment to the airway. Lastly, the FAA reviewed the airway amendments proposed in the NPRM and the Cleveland/Detroit Metroplex project redesign and determined the two activities were in fact independent of each other and not connected. The airway amendments proposed in the NPRM support the FAA's NextGen efforts to safely improve the overall efficiency of the NAS.

Since several airway amendments proposed in the NPRM required further amendment due to the decommissioning of Tiverton VOR/DME and NAV CANADA's amendment to one of the airways, and the NPRM characterization required clarification that the airway amendments proposed in the NPRM in fact supported the FAA's NextGen efforts independent from the FAA's Cleveland/Detroit Metroplex project activities, the FAA determined it was necessary to supplement the proposal and reopen the comment period to provide additional opportunity for public comment.

The FAA therefore published a supplemental notice of proposed rulemaking (SNPRM) in the Federal Register for Docket No. FAA-2016-9555 (82 FR 35918; August 2, 2017). The SNPRM proposed to amend three VOR Federal airways in northcentral United States to reflect additional amendments required by the planned decommissioning of the Tiverton VOR/DME navigation aid and amend one VOR Federal airway to reflect NAV CANADA's additional amendment to the airway within Canada's airspace. The remaining VOR Federal airway amendments and removals proposed in the NPRM published in the Federal Register (82 FR 11859, February 27, 2017) were unchanged. The SNPRM also clarified the FAA was undertaking this action in support of its NextGen efforts to safely improve the overall efficiency of the NAS. Interested parties were invited to participate in this rulemaking effort by submitting written comments on the proposal. One comment was received.

Discussion of Comment

The Aircraft Owners and Pilots Association (AOPA) contended that, for those VOR NAVAIDs that are to be decommissioned, and for those airways that are correspondingly removed, the FAA should create an RNAV waypoint at the previous NAVAID location and retain all fixes and intersections along that route by amending their definition to that of an RNAV waypoint. Their concern was that with the removal of much of the route structure and their defining fixes, there would be a gap in how pilots could navigate through the area and how they communicate their planned route of flight to air traffic control unless a waypoint system remained.

As addressed in the NPRM, and supported in AOPA's comment, the FAA is retaining the current fixes contained within the airspace area affected by this action and converting them into RNAV waypoints that will remain in place to assist pilots and air traffic controllers already familiar with them, for navigation purposes. Additionally, the FAA is establishing a waypoint within the immediate vicinity of the Tiverton VOR/DME location (60 feet) to further assist pilots navigating through the airspace affected by the Tiverton VOR/DME being decommissioned.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

Difference From NPRM and SNPRM

The amendment to V-14 is revised to remove the airway segment between the Flag City, OH, VORTAC and the Erie, PA, VORTAC. The airway segment between the Erie, PA, VORTAC and Dunkirk, NY, VOR/DME that was proposed to be removed, and the airway segment between the Dunkirk, NY, VOR/DME and Buffalo, NY, VOR/DME that was proposed to be retained, were removed in a separate rulemaking action (16-AEA-11) published in the Federal Register (82 FR 26987, June 13, 2017) Docket No. FAA-2017-0107.

The amendment to V-464 is revised to remove the airway in its entirety. The airway segment between the Aylmer, ON, Canada, VOR/DME and Geneseo, NY, VOR/DME that was proposed to be retained, was removed in a separate rulemaking action (16-AEA-11) published in the Federal Register (82 FR 26987, June 13, 2017) Docket No. FAA-2017-0107.

The amendment to V-522 remains to remove the airway in its entirety. However, the airway was amended in a separate rulemaking action (16-AEA-11) published in the Federal Register (82 FR 26987, June 13, 2017) Docket No. FAA-2017-0107. The existing airway to be removed extends between the Dryer, OH, VOR/DME and Erie, PA, VORTAC.

Lastly, minor editorial corrections have been made to a few of the airway descriptions for standardization. These corrections include removing the word “via” when used between the first and second airway points listed and changing punctuation (commas to semi-colons) between airway points contained in the descriptions. With the exception of the above noted changes and minor editorial corrections, this rule is the same as that published in the NPRM and SNPRM.

The Rule

The FAA is amending Title 14, Code of Federal Regulations (14 CFR) part 71 to modify VOR Federal airways V-2, V-5, V-6, V-8, V-10, V-11, V-14, V-26, V-30, V-38, V-43, V-45, V-47, V-59, V-75, V-84, V-92, V-96, V-103, V-116, V-126, V-133, V-170, V-188, V-210, V-221, V-232, V-233, V-450, V-493, and V-542. Additionally, this action removes VOR Federal airways V-40, V-98, V-176, V-297, V-353, V-383, V-396, V-406, V-416, V-418, V-426, V-435, V-443, V-464, V-467, V-486, V-522, V-523, V-525, and V-584. These VOR Federal airway amendments and removals support the FAA's ongoing NextGen efforts and planned decommissioning of the Tiverton, OH, VOR/DME, and are outlined below.

V-2: V-2 extends between the Seattle, WA, VORTAC and Gardner, MA, VOR/DME, excluding the airspace within Canada. This rule removes the airway segment between the Lansing, MI, VORTAC and Buffalo, NY, VOR/DME, and the exclusion statement for the airspace within Canada. The unaffected portions of the existing airway remain unchanged.

V-5: V-5 extends between the Pecan, GA, VOR/DME and London, ON, Canada, VOR/DME, excluding the airspace within Canada. This rule removes the airway segment between the Appleton, OH, VORTAC and London, ON, Canada, VOR/DME, and the exclusion statement for the airspace within Canada. The unaffected portions of the existing airway remain unchanged.

V-6: V-6 extends between the Oakland, CA, VORTAC and DuPage, IL, VOR/DME; between the intersection of the Chicago Heights, IL, VORTAC 358° and Gipper, MI, VORTAC 271° radials (NILES fix) and Waterville, OH, VOR/DME; and between the Dryer, OH, VOR/DME and La Guardia, NY, VOR/DME; excluding the airspace within restricted areas R-4803, R-4813A, and R-4813B when active. This rule removes the airway segments between the intersection of the Gipper, MI, VORTAC 092° and Litchfield, MI, VOR/DME 196° radials (MODEM fix) and Waterville, OH, VOR/DME; and between the Dryer, OH, VOR/DME and Clarion, PA, VOR/DME. Additionally, this rule removes the exclusion statement for the airspace within restricted areas R-4803, R-4813A, and R-4813B. The unaffected portions of the existing airway remain unchanged.

V-8: V-8 extends between the intersection of the Seal Beach, CA, VORTAC 266° and Ventura, CA, VOR/DME 144° radials (DOYLE fix) and the Washington, DC, VOR/DME. This rule removes the airway segment between the Flag City, OH, VORTAC and Briggs, OH, VOR/DME. The unaffected portions of the existing airway remain unchanged.

V-10: V-10 extends between the Pueblo, CO, VORTAC and the intersection of the Bradford, IL, VORTAC 058° and Joliet, IL, VORTAC 287° radials (PLANO fix); and between the intersection of the Chicago Heights, IL, VORTAC 358° and Gipper, MI, VORTAC 271° radials (NILES fix) and the Lancaster, PA, VOR/DME; excluding the airspace within Canada. This rule removes the airway segment between the Litchfield, MI, VOR/DME and Youngstown, OH, VORTAC, and the exclusion statement for the airspace within Canada. The unaffected portions of the existing airway remain unchanged.

V-11: V-11 extends between the Brookley, AL, VORTAC and the intersection of the Fort Wayne, IN, VORTAC 038° and Carleton, MI, VORTAC 262° radials (CRUXX fix). This rule removes the airway segment between the intersection of the Fort Wayne, IN, 038° and Waterville, OH, VOR/DME 273° radials (EDGEE fix) and the intersection of the Fort Wayne, IN, VORTAC 038° and Carleton, MI, VORTAC 262° radials (CRUXX fix). The unaffected portions of the existing airway remain unchanged.

V-14: V-14 extends between the Chisum, NM, VORTAC and Erie, PA, VORTAC; and between the Buffalo, NY, VOR/DME and Norwich, CT, VOR/DME. This rule removes the airway segment between the Flag City, OH, VORTAC and Erie, PA, VORTAC. The unaffected portions of the existing airway remain unchanged.

V-26: V-26 extends between the Blue Mesa, CO, VOR/DME and Dryer, OH, VOR/DME, excluding the airspace within Canada. This rule removes the airway segment between the Lansing, MI, VORTAC and Dryer, OH, VOR/DME, and the exclusion statement for the airspace within Canada. The unaffected portions of the existing airway remain unchanged.

V-30: V-30 extends between the Badger, WI, VORTAC and Waterville, OH, VOR/DME; and between the Dryer, OH, VOR/DME and Solberg, NJ, VOR/DME. This rule removes the airway segments between the Litchfield, MI, VOR/DME and Waterville, OH, VOR/DME; and between the Dryer, OH, VOR/DME and Clarion, PA, VOR/DME. The unaffected portions of the existing airway remain unchanged.

V-38: V-38 extends between the Moline, IL, VORTAC and Cape Charles, VA, VORTAC. This rule removes the airway segment between the intersection of the Fort Wayne, IN, VORTAC 091° and Rosewood, OH, VORTAC 334° radials (WINES fix) and the Appleton, OH, VORTAC. The unaffected portions of the existing airway remain unchanged.

V-40: V-40 extends between the Dryer, OH, VOR/DME and the intersection of the Briggs, OH, VOR/DME 077° and Youngstown, OH, VORTAC 177° radials (CUTTA fix). V-40 is removed in its entirety.

V-43: V-43 extends between the Appleton, OH, VORTAC and Buffalo, NY, VOR/DME. This rule removes the airway segments between the Appleton, OH, VORTAC and Youngstown, OH, VORTAC; and between the Erie, PA, VORTAC and Buffalo, NY, VOR/DME. The unaffected portion of the existing airway remains unchanged.

V-45: V-45 extends between the New Bern, NC, VOR/DME and Sault Ste Marie, MI, VOR/DME, excluding the airspace within restricted areas R-5502A and R-5502B. This rule removes the airway segment between the Appleton, OH, VORTAC and the Saginaw, MI, VOR/DME. Additionally, this proposal removes the exclusion statement for the airspace within restricted areas R-5502A and R-5502B. The unaffected portions of the existing airway remain unchanged.

V-47: V-47 extends between the Pine Bluff, AR, VOR/DME and Pocket City, IN, VORTAC; and between the Cincinnati, KY, VORTAC and Waterville, OH, VOR/DME. This rule removes the airway segment between the Flag City, OH, VORTAC and Waterville, OH, VOR/DME, and corrects the state location of the Cincinnati VORTAC to reflect “Kentucky”. The unaffected portions of the existing airway remain unchanged.

V-59: V-59 extends between the Pulaski, VA, VORTAC and Briggs, OH, VOR/DME. This rule removes the airway segment between the Newcomerstown, OH, VOR/DME and Briggs, OH, VOR/DME. The unaffected portions of the existing airway remain unchanged.

V-75: V-75 extends between the Morgantown, WV, VORTAC and the intersection of the Dryer, OH, VOR/DME 325° and Waterville, OH, VOR/DME 062° radials (LLEEO fix), excluding the airspace within Canada. This rule removes the airway segment between the Briggs, OH, VOR/DME and the intersection of the Dryer, OH, VOR/DME 325° and Waterville, OH, VOR/DME 062° radials (LLEEO fix), and the exclusion statement for the airspace within Canada. The unaffected portions of the existing airway remain unchanged.

V-84: V-84 extends between the Northbrook, IL, VOR/DME and Flint, MI, VORTAC; and between the Buffalo, NY, VOR/DME and Syracuse, NY, VORTAC. This rule removes the airway segment between the Lansing, MI, VORTAC and Flint, MI, VORTAC. The unaffected portions of the existing airway remain unchanged.

V-92: V-92 extends between the intersection of the Chicago Heights, IL, VORTAC 358° and Chicago O'Hare, IL, VOR/DME 127° radials (BEBEE fix) and the Armel, VA, VOR/DME. This rule removes the airway segments between the intersection of the Chicago Heights, IL, VORTAC 358° and Chicago O'Hare, IL, VOR/DME 127° radials (BEBEE fix) and the Chicago Heights, IL, VORTAC; and between the Goshen, IN, VORTAC and Newcomerstown, OH, VOR/DME. The unaffected portions of the existing airway remain unchanged.

V-96: V-96 extends between the Brickyard, IN, VORTAC and Detroit, MI, VOR/DME. This rule removes the airway segment between the intersection of the Fort Wayne, IN, VORTAC 071° and Flag City, OH, VORTAC 289° radials (TWERP fix) and the Detroit, MI, VOR/DME. The unaffected portions of the existing airway remain unchanged.

V-98: V-98 extends between the Dayton, OH, VOR/DME and the intersection of the Carleton, MI, VORTAC 243° and Waterville, OH, VOR/DME 321° radials (MIZAR fix). V-98 is removed in its entirety.

V-103: V-103 extends between the Chesterfield, SC, VOR/DME and Lansing, MI, VORTAC, excluding the airspace within Canada. This rule removes the airway segment between the Akron, OH, VOR/DME and Lansing, MI, VORTAC, and the exclusion statement for the airspace within Canada. The unaffected portions of the existing airway remain unchanged.

V-116: V-116 extends between the intersection of the Chicago O'Hare, IL, VOR/DME 092° and Chicago Heights, IL, VORTAC 013° radials (WILLA fix) and the Sparta, NJ, VORTAC, excluding the airspace within Canada. This rule removes the airway segment between the intersection of the Chicago O'Hare, IL, VOR/DME 092° and Chicago Heights, IL, VORTAC 013° radials (WILLA fix) and the Erie, PA, VORTAC, and the exclusion statement for the airspace within Canada. The unaffected portions of the existing airway remain unchanged.

V-126: V-126 currently extends between the intersection of the Peotone, IL, VORTAC 053° and Knox, IN, VOR/DME 297° radials (BEARZ fix) and the Waterville, OH, VOR/DME; and between the Dryer, OH, VOR/DME and Stonyfork, PA, VOR/DME. This rule removes the airway segment between the intersection of the Goshen, IN, VORTAC 092° and Fort Wayne, IN, VORTAC 016° radials (ILTON fix) and the Waterville, OH, VOR/DME; and between the Dryer, OH, VOR/DME and Erie, PA, VORTAC. The unaffected portions of the existing airway remain unchanged.

V-133: V-133 extends between the intersection of the Charlotte, NC, VOR/DME 305° and Barretts Mountain, NC, VOR/DME 197° radials (LINCO fix) and the Mansfield, OH, VORTAC; and between the Salem, MI, VORTAC and Red Lake, ON, Canada, VOR/DME; excluding the airspace within Canada. This rule removes the airway segment between the Zanesville, OH, VOR/DME and Mansfield, OH, VORTAC; and between the Salem, MI, VORTAC and Saginaw, MI, VOR/DME. The unaffected portions of the existing airway and the exclusion statement for the airspace within Canada remain unchanged.

V-170: V-170 extends between the Devils Lake, ND, VOR/DME and Salem, MI, VORTAC; and between the Erie, PA, VORTAC and the intersection of the Andrews, MD, VORTAC 060° and Baltimore, MD, VORTAC 165° radials (POLLA fix); excluding the airspace within restricted area R-5802 when active. This rule removes the airway segment between the Erie, PA, VORTAC and Bradford, PA, VOR/DME. The unaffected portions of the existing airway and the exclusion statement for restricted area R-5802 remain unchanged.

V-176: V-176 extends between the Carleton, MI, VORTAC and the intersection of the Chardon, OH, VOR/DME 294° and Dryer, OH, VOR/DME 357° radials (HIMEZ fix), excluding the airspace within Canada. V-176 is removed in its entirety.

V-188: V-188 extends between the Carleton, MI, VORTAC and Groton, CT, VOR/DME, excluding the airspace within Canada. This rule removes the airway segment between the Carleton, MI, VORTAC and Tidioute, PA, VORTAC, and the exclusion statement for the airspace within Canada. The unaffected portions of the existing airway remain unchanged.

V-210: V-210 extends between the Los Angeles, CA, VORTAC and Okmulgee, OK, VOR/DME; and between the Brickyard, IN, VORTAC and Yardley, PA, VOR/DME. This rule removes the airway segment between the Rosewood, OH, VORTAC and Revloc, PA, VOR/DME. The unaffected portions of the existing airway remain unchanged.

V-221: V-221 extends between the Bible Grove, IL, VORTAC and Erie, PA, VORTAC, excluding the airspace within Canada. This rule removes the airway segment between the intersection of the Fort Wayne, IN, VORTAC 016° and Goshen, IN, VORTAC 092° radials (ILTON fix) and the Erie, PA, VORTAC, and the exclusion statement for the airspace within Canada. The unaffected portions of the existing airway remain unchanged.

V-232: V-232 extends between the Chardon, OH, VOR/DME and Colts Neck, NJ, VOR/DME. This rule removes the airway segment between the Chardon, OH, VOR/DME and Keating, PA, VORTAC. The unaffected portions of the existing airway remain unchanged.

V-233: V-233 extends between the Spinner, IL, VORTAC and Pellston, MI, VORTAC. This rule removes the airway segment between the Litchfield, MI, VOR/DME and Mount Pleasant, MI, VOR/DME. The unaffected portions of the existing airway remain unchanged.

V-297: V-297 extends between the Johnstown, PA, VORTAC and the intersection of the Akron, OH, VOR/DME 305° and Waterville, OH, VOR/DME 062° radials (LLEEO fix), excluding the airspace within Canada. V-297 is removed in its entirety.

V-353: V-353 extends between the Jackson, MI, VOR/DME and Flint, MI, VORTAC. V-353 is removed in its entirety.

V-383: V-383 extends between the Rosewood, OH, VORTAC and Detroit, MI, VOR/DME. V-383 is removed in its entirety.

V-396: V-396 extends between the Windsor, ON, Canada, VOR/DME and Chardon, OH, VOR/DME, excluding the airspace within Canada. V-396 is removed in its entirety.

V-406: V-406 extends between the Salem, MI, VORTAC and London, ON, Canada, VOR/DME, excluding the airspace within Canada. V-406 is removed in its entirety.

V-416: V-416 extends between the Rosewood, OH, VORTAC and the intersection of the Mansfield, OH, VORTAC 045° and Dryer, OH, VOR/DME 123° radials (JAKEE fix). V-416 is removed in its entirety.

V-418: V-418 extends between the Salem, MI, VORTAC and Jamestown, NY, VOR/DME, excluding the airspace within Canada. V-418 is removed in its entirety.

V-426: V-426 extends between the Carleton, MI, VORTAC and Dryer, OH, VOR/DME. V-426 is removed in its entirety.

V-435: V-435 extends between the Rosewood, OH, VORTAC and Dryer, OH, VOR/DME. V-435 is removed in its entirety.

V-443: V-443 extends between the intersection of the Newcomerstown, OH, VOR/DME 099° and Bellaire, OH, VOR/DME 044° radials (WISKE fix) and the Aylmer, ON, Canada, VOR/DME, excluding the airspace within Canada. V-443 is removed in its entirety.

V-450: V-450 extends between the Escanaba, MI, VOR/DME and London, ON, Canada, VOR/DME, excluding the airspace within Canada. This rule removes the airway segment between the Flint, MI, VORTAC and London, ON, Canada, VOR/DME, and the exclusion statement for the airspace within Canada. The unaffected portions of the existing airway remain unchanged.

V-464: V-464 extends between the Salem, MI, VORTAC and Aylmer, ON, Canada, VOR/DME, excluding the airspace within Canada. V-464 is removed in its entirety.

V-467: V-467 extends between the Richmond, IN, VORTAC and Detroit, MI, VOR/DME. V-467 is removed in its entirety.

V-486: V-486 extends between the intersection of the Akron, OH, VOR/DME 316° and Chardon, OH, VOR/DME 260° radials (LEBRN fix) and the Jamestown, NY, VOR/DME. V-486 is removed in its entirety.

V-493: V-493 extends between the Livingston, TN, VORTAC and Carleton, MI, VORTAC; and between the Menominee, MI, VOR/DME and Rhinelander, WI, VORTAC. This rule removes the airway segment between the Appleton, OH, VORTAC and Carleton, MI, VORTAC. The unaffected portions of the existing airway remain unchanged.

V-522: V-522 extends between the Dryer, OH, VOR/DME and Erie, PA, VORTAC. V-522 is removed in its entirety.

V-523: V-523 extends between the Appleton, OH, VORTAC and Erie, PA, VORTAC. V-523 is removed in its entirety.

V-525: V-525 extends between the Appleton, OH, VORTAC and Dryer, OH, VOR/DME. V-525 is removed in its entirety.

V-542: V-542 extends between the Rosewood, OH, VORTAC and Lebanon, NH, VORTAC. This rule removes the airway segment between the Rosewood, OH, VORTAC and Tidioute, PA, VORTAC. The unaffected portions of the existing airway remain unchanged.

V-584: V-584 extends between the Waterville, OH, VOR/DME and Dryer, OH, VOR/DME. V-584 is removed in its entirety.

All radials in the route descriptions are stated in True degrees.

VOR Federal airways are published in paragraph 6010(a) of FAA Order 7400.11B, dated August 3, 2017, and effective September 15, 2017, which is incorporated by reference in 14 CFR 71.1. The VOR Federal airways listed in this document will be subsequently published in the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending and removing multiple VHF Omnidirectional Range (VOR) Federal airways in northcentral United States qualifies for categorical exclusion under the National Environmental Policy Act and its agency-specific implementing regulations in FAA Order 1050.1F, “Environmental Impacts: Policies and Procedures” regarding categorical exclusions for procedural actions at paragraph 5-6.5a, which categorically excludes from full environmental impact review rulemaking actions that designate or modify classes of airspace areas, airways, routes, and reporting points. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 6010(a). Domestic VOR Federal airways.

* * * * *

V-2 [Amended]

From Seattle, WA; Ellensburg, WA; Moses Lake, WA; Spokane, WA; Mullan Pass, ID; Missoula, MT; Helena, MT; INT Helena 119° and Livingston, MT, 322° radials; Livingston; Billings, MT; Miles City, MT; 24 miles, 90 miles, 55 MSL, Dickinson, ND; 10 miles, 60 miles, 38 MSL, Bismarck, ND; 14 miles, 62 miles, 34 MSL, Jamestown, ND; Fargo, ND; Alexandria, MN; Gopher, MN; Nodine, MN; Lone Rock, WI; Madison, WI; Badger, WI; Muskegon, MI; to Lansing, MI. From Buffalo, NY; Rochester, NY; Syracuse, NY; Utica, NY; Albany, NY; INT Albany 084° and Gardner, MA, 284° radials; to Gardner.

* * * * *

V-5 [Amended]

From Pecan, GA; Vienna, GA; Dublin, GA; Athens, GA; INT Athens 340° and Electric City, SC, 274° radials; INT Electric City 274° and Choo Choo, GA, 127° radials; Choo Choo; Bowling Green, KY; New Hope, KY; Louisville, KY; Cincinnati, OH; to Appleton, OH.

V-6 [Amended]

From Oakland, CA; INT Oakland 039° and Sacramento, CA, 212° radials; Sacramento; Squaw Valley, CA; Mustang, NV; Lovelock, NV; Battle Mountain, NV; INT Battle Mountain 062° and Wells, NV, 256° radials; Wells; 5 miles, 40 miles, 98 MSL, 85 MSL, Lucin, UT; 43 miles, 85 MSL, Ogden, UT; 11 miles, 50 miles, 105 MSL, Fort Bridger, WY; Rock Springs, WY; 20 miles, 39 miles 95 MSL, Cherokee, WY; 39 miles, 27 miles 95 MSL, Medicine Bow, WY; INT Medicine Bow 106° and Sidney, NE, 291° radials; Sidney; North Platte, NE; Grand Island, NE; Omaha, NE; Des Moines, IA; Iowa City, IA; Davenport, IA; INT Davenport 087° and DuPage, IL, 255° radials; to DuPage. From INT Chicago Heights, IL, 358° and Gipper, MI, 271° radials; Gipper; to INT Gipper 092° and Litchfield, MI, 196° radials. From Clarion, PA; Philipsburg, PA; Selinsgrove, PA; Allentown, PA; Solberg, NJ; INT Solberg 107° and Yardley, PA, 068° radials; INT Yardley 068° and La Guardia, NY, 213° radials; to La Guardia.

* * * * *

V-8 [Amended]

From INT Seal Beach, CA, 266° and Ventura, CA, 144° radials; Seal Beach; Paradise, CA; 35 miles, 7 miles wide (3 miles SE and 4 miles NW of centerline) Hector, CA; Goffs, CA; INT Goffs 033° and Morman Mesa, NV, 196° radials; Morman Mesa; Bryce Canyon, UT; Hanksville, UT; Grand Junction, CO; Rifle, CO; Kremmling, CO; Mile High, CO; Akron, CO; Hayes Center, NE; Grand Island, NE; Omaha, NE; Des Moines, IA; Iowa City, IA; Moline, IL; Joliet, IL; Chicago Heights, IL; Goshen, IN; to Flag City, OH. From Briggs, OH; Bellaire, OH; INT Bellaire 107° and Grantsville, MD, 285° radials; Grantsville; Martinsburg, WV; to Washington, DC. The portion outside the United States has no upper limit.

* * * * *

V-10 [Amended]

From Pueblo, CO; 18 miles, 48 miles, 60 MSL, Lamar, CO; Garden City, KS; Dodge City, KS; Hutchinson, KS; Emporia, KS; INT Emporia 063°and Napoleon, MO, 243° radials; Napoleon; Kirksville, MO; Burlington, IA; Bradford, IL; to INT Bradford 058° and Joliet, IL, 287° radials. From INT Chicago Heights, IL, 358° and Gipper, MI, 271° radials; Gipper; to Litchfield, MI. From Youngstown, OH; INT Youngstown 116° and Revloc, PA, 300° radials; Revloc; INT Revloc 107° and Lancaster, PA, 280° radials; to Lancaster.

V-11 [Amended]

From Brookley, AL; Greene County, MS; INT Greene County 315° and Magnolia, MS, 133° radials; Magnolia; Sidon, MS; Holly Springs, MS; Dyersburg, TN; Cunningham, KY; Pocket City, IN; Brickyard, IN; Marion, IN; Fort Wayne, IN; to INT Fort Wayne 038° and Waterville, OH, 273° radials.

* * * * *

V-14 [Amended]

From Chisum, NM; Lubbock, TX; Childress, TX; Hobart, OK; Will Rogers, OK; INT Will Rogers 052° and Tulsa, OK, 246° radials; Tulsa; Neosho, MO; Springfield, MO; Vichy, MO; INT Vichy 067° and St. Louis, MO, 225° radials; St. Louis; Vandalia, IL; Terre Haute, IN; Brickyard, IN; Muncie, IN; to Flag City, OH. From Buffalo, NY; Geneseo, NY; Georgetown, NY; INT Georgetown 093° and Albany, NY, 270° radials; Albany; INT Albany 084° and Gardner, MA, 284° radials; Gardner; to Norwich, CT.

* * * * *

V-26 [Amended]

From Blue Mesa, CO; Montrose, CO; 13 miles, 112 MSL, 131 MSL; Grand Junction, CO; Meeker, CO; Cherokee, WY; Muddy Mountain, WY; 14 miles 12 AGL, 37 miles 75 MSL, 84 miles 90 MSL, 17 miles 12 AGL; Rapid City, SD; Philip, SD; Pierre, SD; Huron, SD; Redwood Falls, MN; Farmington, MN; Eau Claire, WI; Waussau, WI; Green Bay, WI; INT Green Bay 116° and White Cloud, MI, 302° radials; White Cloud; to Lansing, MI.

* * * * *

V-30 [Amended]

From Badger, WI; INT Badger 102° and Pullman, MI, 303° radials; Pullman; to Litchfield, MI. From Clarion, PA; Philipsburg, PA; Selinsgrove, PA; East Texas, PA; INT East Texas 095° and Solberg, NJ, 264° radials; to Solberg.

* * * * *

V-38 [Amended]

From Moline, IL; INT Moline 082° and Peotone, IL, 281° radials; Peotone; Fort Wayne, IN; to INT Fort Wayne 091° and Rosewood, OH, 334° radials. From Appleton, OH; Zanesville, OH; Parkersburg, WV; Elkins, WV; Gordonsville, VA; Richmond, VA; Harcum, VA; to Cape Charles, VA.

* * * * *

V-40 [Removed]

* * * * *

V-43 [Amended]

From Youngstown, OH; to Erie, PA.

* * * * *

V-45 [Amended]

From New Bern, NC; Kinston, NC; Raleigh-Durham, NC; INT Raleigh-Durham 275° and Greensboro, NC, 105° radials; Greensboro; INT Greensboro 334° and Pulaski, VA, 147° radials; Pulaski; Bluefield, WV; Charleston, WV; Henderson, WV; to Appleton, OH. From Saginaw, MI; Alpena, MI; to Sault Ste Marie, MI.

* * * * *

V-47 [Amended]

From Pine Bluff, AR; Gilmore, AR; Dyersburg, TN; Cunningham, KY; to Pocket City, IN. From Cincinnati, KY; Rosewood, OH; to Flag City, OH.

* * * * *

V-59 [Amended]

From Pulaski, VA; Beckley, WV; Parkersburg, WV; to Newcomerstown, OH.

* * * * *

V-75 [Amended]

From Morgantown, WV; Bellaire, OH; to Briggs, OH.

* * * * *

V-84 [Amended]

From Northbrook, IL; Pullman, MI; to Lansing, MI. From Buffalo, NY; Geneseo, NY; INT Geneseo 091° and Syracuse, NY, 240° radials; to Syracuse.

* * * * *

V-92 [Amended]

From Chicago Heights, IL; to Goshen, IN. From Newcomerstown, OH; Bellaire, OH; INT Bellaire 107° and Grantsville, MD, 285° radials; Grantsville; INT Grantsville 124° and Armel, VA, 292° radials; to Armel.

* * * * *

V-96 [Amended]

From Brickyard, IN; Kokomo, IN; Fort Wayne, IN; to INT Fort Wayne 071° and Flag City, OH, 289° radials.

* * * * *

V-98 [Removed]

* * * * *

V-103 [Amended]

From Chesterfield, SC; Greensboro, NC; Roanoke, VA; Elkins, WV; Clarksburg, WV; Bellaire, OH; INT Bellaire 327° and Akron, OH, 181° radials; to Akron.

* * * * *

V-116 [Amended]

From Erie, PA; Bradford, PA; Stonyfork, PA; INT Stonyfork 098° and Wilkes-Barre, PA, 310° radials; Wilkes-Barre; INT Wilkes-Barre 084° and Sparta, NJ, 300° radials; to Sparta.

* * * * *

V-126 [Amended]

From INT Peotone, IL, 053° and Knox, IN, 297° radials; INT Knox 297° and Goshen, IN, 270° radials; Goshen; to INT Goshen 092° and Fort Wayne, IN, 016° radials. From Erie, PA; Bradford, PA; to Stonyfork, PA.

* * * * *

V-133 [Amended]

From INT Charlotte, NC, 305° and Barretts Mountain, NC, 197° radials; Barretts Mountain; Charleston, WV; to Zanesville, OH. From Saginaw, MI; Traverse City, MI; Escanaba, MI; Sawyer, MI; Houghton, MI; Thunder Bay, ON, Canada; International Falls, MN; to Red Lake, ON, Canada. The airspace within Canada is excluded.

* * * * *

V-170 [Amended]

From Devils Lake, ND; INT Devils Lake 187° and Jamestown, ND, 337° radials; Jamestown; Aberdeen, SD; Sioux Falls, SD; Worthington, MN; Fairmont, MN; Rochester, MN; Nodine, MN; Dells, WI; INT Dells 097° and Badger, WI, 304° radials; Badger; INT Badger 121° and Pullman, MI, 282° radials; Pullman; to Salem, MI. From Bradford, PA; Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded when active.

* * * * *

V-176 [Removed]

* * * * *

V-188 [Amended]

From Tidioute, PA; Slate Run, PA; Williamsport, PA; Wilkes-Barre, PA; INT Wilkes-Barre 084° and Sparta, NJ, 300° radials; Sparta; INT Sparta 082° and Carmel, NY, 243° radials; Carmel; INT Carmel 078° and Groton, CT, 276° radials; to Groton.

* * * * *

V-210 [Amended]

From Los Angeles, CA; INT Los Angeles 083° and Pomona, CA, 240° radials; Pomona; INT Daggett, CA, 229° and Hector, CA, 263° radials; Hector; Goffs, CA; 13 miles, 23 miles 71 MSL, 85 MSL, Peach Springs, AZ; Grand Canyon, AZ; Tuba City, AZ; 10 miles 90 MSL, 91 miles 105 MSL, Rattlesnake, NM; Alamosa, CO; INT Alamosa 074° and Lamar, CO, 250° radials; 40 miles, 51 miles, 65 MSL, Lamar; 13 miles, 79 miles, 55 MSL, Liberal, KS; INT Liberal 137° and Will Rogers, OK, 284° radials; Will Rogers; INT Will Rogers 113° and Okmulgee, OK, 238° radials; to Okmulgee. From Brickyard, IN; Muncie, IN; to Rosewood, OH. From Revloc, PA; INT Revloc 096° and Harrisburg, PA, 285° radials; Harrisburg; Lancaster, PA; INT Lancaster 095° and Yardley, PA, 255° radials; to Yardley.

* * * * *

V-221 [Amended]

From Bible Grove, IL; Hoosier, IN; Shelbyville, IN; Muncie, IN; Fort Wayne, IN; to INT Fort Wayne 016° and Goshen, IN, 092° radials.

* * * * *

V-232 [Amended]

From Keating, PA; Milton, PA; INT Milton 099° and Solberg, NJ, 299° radials; Solberg; INT Solberg 137° and Colts Neck, NJ, 263° radials; to Colts Neck.

V-233 [Amended]

From Spinner, IL; INT Spinner 061° and Roberts, IL, 233° radials; Roberts; Knox, IN; Goshen, IN; to Litchfield, MI. From Mount Pleasant, MI; INT Mount Pleasant 351° and Gaylord, MI, 207° radials; Gaylord; to Pellston, MI.

* * * * *

V-297 [Removed]

* * * * *

V-353 [Removed]

* * * * *

V-383 [Removed]

* * * * *

V-396 [Removed]

* * * * *

V-406 [Removed]

* * * * *

V-416 [Removed]

* * * * *

V-418 [Removed]

* * * * *

V-426 [Removed]

* * * * *

V-435 [Removed]

* * * * *

V-443 [Removed]

* * * * *

V-450 [Amended]

From Escanaba, MI; Menominee, MI; Green Bay, WI; Muskegon, MI; INT Muskegon 094° and Flint, MI, 280° radials; to Flint.

* * * * *

V-464 [Removed]

* * * * *

V-467 [Removed]

* * * * *

V-486 [Removed]

* * * * *

V-493 [Amended]

From Livingston, TN; Lexington, KY; York, KY; INT York 030° and Appleton, OH, 183° radials; to Appleton. From Menominee, MI; to Rhinelander, WI.

* * * * *

V-522 [Removed]

V-523 [Removed]

* * * * *

V-525 [Removed]

* * * * *

V-542 [Amended]

From Tidioute, PA; Bradford, PA; INT Bradford 078° and Elmira, NY, 252° radials; Elmira; Binghampton, NY; Rockdale, NY; Albany, NY; Cambridge, NY; INT Cambridge 063° and Lebanon, NH, 214° radials; to Lebanon.

* * * * *

V-584 [Removed]

Issued in Washington, DC, on March 22, 2018.
Rodger A. Dean Jr.,
Manager, Airspace Policy Group.

[FR Doc. 2018-06268 Filed 3-28-18; 8:45 am]

BILLING CODE 4910-13-P